DEPARTMENT OF DEFENSE

Office of the Secretary

[Transmittal No. 21-34]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 21-34, Policy Justification, and Sensitivity of Technology.

Dated: September 11, 2024.
Aaron T. Siegel,
Alternate OSD Federal Register Liaison Officer, Department of Defense.

BILLING CODE 6001-FR-P

BILLING CODE 6001-FR-C

Transmittal No. 21-34

Notice of Proposed Issuance of Letter of Offer Pursuant to Section 36(b)(1) of the Arms Export Control Act, as amended

(i) Prospective Purchaser: Government of Turkey

(ii) Total Estimated Value:

Major Defense Equipment * | $ 0 million
Other | $ 259 million
TOTAL | $ 259 million

Funding Source: National Funds

(iii) Description and Quantity or Quantities of Articles or Services under Consideration for Purchase:

Major Defense Equipment (MDE):

None

Non-MDE:

The Government of Turkey has requested to buy defense articles and services to support upgrading its fleet of F-16 aircraft, to include software upgrades of the Operational Flight Program (OFP) avionics with the Automatic Ground Collision Avoidance System (AGCAS) capability; hardware modifications to enable integration of the Multifunctional Information Distribution System Block Upgrade II (MIDS BU II), procured separately; hardware and software upgrades to include aircraft major modification; both classified and unclassified software and software support; integration and test support; support equipment; training and training equipment; spare and repair parts; publications and technical documentation; U.S. Government and contractor engineering, technical, and logistical support services; and other related elements of logistical and program support.

(iv) Military Department: Air Force (TK-D-VAL)

(v) Prior Related Cases, if any: TK-P-LKT, TK-D-SFA, TK-D-SLA, TK-D-SMB, TK-D-NCU

(vi) Sales Commission, Fee, etc., Paid, Offered, or Agreed to be Paid: None

(vii) Sensitivity of Technology Contained in the Defense Article or Defense Services Proposed to be Sold: See Attached Annex.

(viii) Date Report Delivered to Congress: April 17, 2023

* As defined in Section 47(6) of the Arms Export Control Act.

POLICY JUSTIFICATION

Turkey—F-16 Avionics Upgrade

The Government of Turkey has requested to buy defense articles and services to support upgrading its fleet of F-16 aircraft, to include software upgrades of the Operational Flight Program (OFP) avionics with the Automatic Ground Collision Avoidance System (AGCAS) capability; hardware modifications to enable integration of the Multifunctional Information Distribution System Block Upgrade II (MIDS BU II), procured separately; hardware and software upgrades to include aircraft major modification; both classified and unclassified software and software support; integration and test support; support equipment; training and training equipment; spare and repair parts; publications and technical documentation; U.S. Government and contractor engineering, technical, and logistical support services; and other related elements of logistical and program support. The estimated total cost is $259 million.

This proposed sale will support the foreign policy and national security objectives of the United States by helping to improve the security of a NATO ally that is an important force for political stability and economic progress in the Black Sea region.

The proposed sale will improve Turkey's capability to meet current and future threats by providing a critical flight safety and tactical integration capability to assist in defending its homeland and U.S. personnel stationed there. Turkey has demonstrated a willingness to modernize its F-16 capabilities since it purchased the aircraft in the mid-1980s and will have no difficulty absorbing these capabilities into its armed forces.

The proposed sale of this equipment and support will not alter the basic military balance in the region.

The principal contractor will be Lockheed Martin Aeronautics Company of Fort Worth, TX. There are no known offset agreements proposed in connection with this potential sale.

Implementation of this sale will not require the assignment of U.S. Government or contractor representatives in Turkey.

There will be no adverse impact on U.S. defense readiness as a result of this proposed sale.

Transmittal No. 21-34

Notice of Proposed Issuance of Letter of Offer Pursuant to Section 36(b)(1) of the Arms Export Control Act

Annex

Item No. vii

Sensitivity of Technology:

1. The Automatic Ground Collision Avoidance System capability is used as a flight safety mitigation tool in order to reduce incidents of controlled flight into terrain and ground collisions, which account for seventy-five percent of F-16 pilot fatalities worldwide. The system consists of a series of collision avoidance and autonomous decision-making algorithms that utilize precise navigation, aircraft performance, and digital terrain data to determine if a collision is imminent. If the system determines a collision is imminent, the system commands an autonomous maneuver to prevent impact, although the pilot may override this functionality.

2. The highest level of defense articles, components, and services included in this potential sale is CONFIDENTIAL.

3. If a technologically advanced adversary were to obtain knowledge of the specific hardware and software elements, the information could be used to develop countermeasures which might reduce system effectiveness or be used in the development of a system with similar or advanced capabilities.

4. All defense articles and services listed in this transmittal are authorized for release and export to the Government of Turkey.

[FR Doc. 2024-21056 Filed 9-16-24; 8:45 am]

BILLING CODE 6001-FR-P